DEPARTMENT OF JUSTICE

Antitrust Division

Notice Pursuant to the National Cooperative Research and Production Act of 1993—National Shipbuilding Research Program (“NSRP”)

Correction

In the notice document appearing on pages 10033 and 10034 in the issue of Monday, March 3, 2003, make the following correction:

On page 10034, after the word “Specifically,” until the end of the paragraph, substitute “on November 30, 2001, Newport News Shipbuilding and Dry Dock Co., Newport News, VA has been acquired by Northrop Grumman Corporation and shall be referred to as Newport News Shipbuilding and Dry Dock Co., a subsidiary of Northrup Grumman Corporation. Ingalls Shipbuilding, Inc., Pascagoula, MS and Avondale Industries, Inc., Avondale, LA, were wholly-owned subsidiaries of Litton Industries, Inc. On May 30, 2001, Litton Industries, Inc. was acquired by Northrup Grumman Corporation. On May 17, 2002, Ingalls changed its name to Northrop Grumman Ship Systems, Inc. On August 26, 2002, Avondale merged into Northrop Grumman Ship Systems, Inc. and, as successor in merger, has changed its name to Northrop Grumman Ship Systems, Inc. On October 23, 2002, Vision Technologies Systems, Inc. completed its acquisition of Halter Marine, Inc., Gulfport, MS and became VT Halter Marine, Inc., Gulfport, MS, a subsidiary of Vision Technologies Systems, Inc.”

Constance K. Robinson,
Director of Operations, Antitrust Division.

[FR Doc. 03-10086 Filed 4-23-03; 8:45 am]

BILLING CODE 4410-11-M